FEDERAL COMMUNICATIONS COMMISSION

[FRS 17223]

Radio Broadcasting Services; AM or FM Proposals To Change The Community of License

AGENCY: Federal Communications Commission.

ACTION: Notice.

DATES: The agency must receive comments on or before January 11, 2021.

ADDRESSES: Federal Communications Commission, 445 12th Street SW, Washington, DC 20554.

FOR FURTHER INFORMATION CONTACT: Rolanda F. Smith, 202-418-2054.

SUPPLEMENTARY INFORMATION: The following applicants filed AM or FM proposals to change the community of license: ALEXANDER BROADCASTING, INC., WRCR(AM), Fac. ID No. 64556, FROM: RAMAPO, NY, TO: HAVERSTRAW, NY, BP-20200813AAK; BUSTOS MEDIA HOLDINGS, LLC, KZTM(FM), Fac. ID No. 33829, FROM: CENTRALIA, WA, TO: MCKENNA, WA, File No. 0000121551; FAMILY LIFE MINISTRIES, INC., WCGT(FM), Fac. ID No. 172665, FROM: TIDIOUTE, PA, TO: CLINTONVILLE, PA, File No. 0000124533; FAMILY LIFE MINISTRIES, INC., WCOT(FM), Fac. ID No. 20653, FROM: JAMESTOWN, NY, TO: TIDIOUTE, PA, File No. 0000124532; PRAISE COMMUNICATIONS, INC, WTUA(FM), Fac. ID No. 23895, FROM: PINOPOLIS, SC, TO: ST. STEPHEN, SC, File No. 0000125220, and OMNI BROADCASTING, LLC, WTKP(FM), Fac. ID No. 67579, FROM: PORT ST. JOE, FL, TO: YOUNGSTOWN, FL, File No. 0000124529. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Nazifa Sawez,
Assistant Chief, Audio Division, Media Bureau.

[FR Doc. 2020-24961 Filed 11-10-20; 8:45 am]

BILLING CODE 6712-01-P